DEPARTMENT OF HEALTH AND HUMAN SERVICES

Centers for Medicare and Medicaid Services

42 CFR Part 412

Prospective Payment Systems for Inpatient Hospital Services

CFR Correction

In Title 42 of the Code of Federal Regulations, parts 400 to 429, revised as of Oct. 1, 2003, on page 477, § 412.525 is corrected by adding paragraph (b) as follows:

§ 412.525 Adjustments to the Federal prospective payment.

* * * * *

(b) Adjustments for Alaska and Hawaii. CMS adjusts the Federal prospective payment for the effects of a higher cost of living for hospitals located in Alaska and Hawaii.

* * * * *

[FR Doc. 04-55511 Filed 6-21-04; 8:45 am]

BILLING CODE 1505-01-D